DEPARTMENT OF THE TREASURY

Community Development Financial Institutions Fund Open Meetings

AGENCY: Community Development Financial Institutions Fund, Department of the Treasury.

ACTION: Notice of open meetings.

SUMMARY: The Community Development Financial Institutions Fund (the “Fund”) is considering revising its regulations implementing the Bank Enterprise Award (“BEA”) Program. Before revising such regulations in the form of an interim rule, the Fund seeks to provide the public with meaningful participation in advance of the rulemaking process. Specifically, the Fund intends to convene four regional meetings that are open to the public for purposes of gathering facts and information on how to improve the BEA Program. The Fund will consider the facts and information gathered from such regional meetings in deciding whether to revise the BEA Program regulations.

DATES AND LOCATIONS: The four regional meetings are scheduled for the following cities and dates: (1) June 21, 2000, Los Angeles, CA; (2) June 23, 2000, Dallas, TX; (3) June 28, 2000, New York, NY; and (4) June 30, 2000, Chicago, IL. Registration is required, because space is limited in each city to 40 members of the public.

FOR FURTHER INFORMATION OR TO REGISTER CONTACT: The Community Development Financial Institutions Fund (the Fund), U.S. Department of Treasury, 601 13th Street, NW., Suite 200 South, Washington, DC, 20005, (202) 622-8662 (this is not a toll free number) or visit the Fund's website at http://www.treas.gov/cdfi. Other information regarding the Fund and its programs also may be obtained through the Fund's website at http://www.treas.gov/cdfi.

SUPPLEMENTARY INFORMATION: The purpose of the BEA Program is to assist in the revitalization of distressed urban and rural communities. Under the BEA Program, the Fund issues grant awards annually (e.g. in September 1999) to insured depository institutions that have increased their level of investment in Community Development Financial Institutions and distressed communities (“BEA Program activities”) between a six month assessment period (e.g. January 1 through June 30, 1999) and a six month baseline period (e.g. January 1 through June 30, 1998). As part of its strategy to maximize the effectiveness of scarce public resources, the Fund is considering various means to enhance the efficacy of the BEA Program in revitalizing distressed urban and rural communities.

For example, the Fund is considering whether to measure increases in BEA Program activities from six month baseline/assessment periods (e.g. January 1 through June 30) to annual baseline/assessment periods (e.g. January 1 through December 31) for purposes of affording insured depository institutions greater flexibility in planning BEA Program activities year round as part of their community reinvestment strategies and to take into account the longer lead times often required to close complicated large dollar transactions.

The Fund also is considering selecting insured depository institutions to participate in the BEA Program before the commencement of the assessment period. The Fund is considering such a change to: (1) Provide greater incentives for insured depository institutions to engage in BEA Program activities that they would not otherwise engage in by (a) Assuring such institutions that if they carry out their BEA Program activities within the assessment period, they will receive a BEA Program award and (b) enabling such institutions to take into consideration the economic value of an award when underwriting a transaction; and (2) reduce paperwork burdens for those insured depository institutions that are not deemed competitive by relieving such institutions of the burden of having to submit a final report at the end of the assessment period. As part of this change, the Fund would utilize a competitive evaluation and selection process.

The Fund intends to provide the public with meaningful participation in improving the efficacy of the BEA Program by obtaining facts and information from the public prior to making any regulatory changes. The Fund intends to accomplish this by convening four regional information gathering sessions in the month of June that are open to the public. The Fund will consider the facts and information from such public meetings in deciding whether to revise the BEA Program regulations.

Authority: 12 U.S.C. 4703; 12 U.S.C. 4713; 12 U.S.C. 1834a; and E.O. 12866, § 6(a).

Dated: June 1, 2000.
Maurice A. Jones,
Deputy Director for Policy and Programs, Community Development Financial Institutions Fund.

[FR Doc. 00-14308 Filed 6-6-00; 8:45 am]

BILLING CODE 4810-70-P